NUCLEAR REGULATORY COMMISSION

Meeting Concerning The Revision of the Oversight Program for Nuclear Fuel Cycle Facilities

AGENCY: Nuclear Regulatory Commission (NRC).

ACTION: Notice of Public Meeting.

SUMMARY: NRC will hold a public meeting at the NRC Headquarters location at 11555 Rockville Pike, in Rockville, MD to provide the public, those regulated by the NRC, and other stakeholders with information about, and an opportunity to provide views on, how NRC plans to revise its oversight program for nuclear fuel cycle facilities. This meeting follows the December 20, 2000 briefing to the Commission by NRC staff and external stakeholders on this subject. Presentations and other documents provided at each meeting are placed on the NRC INTERNET web page (http://www.nrc.gov).

Similar to the revision of the oversight program for commercial nuclear power reactor plants, NRC initiated an effort to improve its oversight program for nuclear fuel cycle facilities. This effort is described in SECY-99-188, “Evaluation and Proposed Revision of the Nuclear Fuel Cycle Facility Safety Inspection Program,” and in SECY-00-0222, “Status of Nuclear Fuel Cycle Facility Oversight Program Revision.” SECY-99-188 and SECY-00-0222 are available in the Public Document Room and on the NRC Web Page at http://www.nrc.gov/NRC/COMMISSION/SECYS/index.html.

Purpose of Meeting: To obtain stakeholder views for improving the NRC oversight program for ensuring fuel cycle licensees and certificate holders maintain protection of worker and public health and safety, protection of the environment, and safeguards for special nuclear material and classified matter in the interest of national security. The oversight program applies to commercial nuclear fuel cycle facilities regulated under 10 CFR Parts 40, 70, and 76. The facilities currently include gaseous diffusion plants, highly enriched uranium fuel fabrication facilities, low-enriched uranium fuel fabrication facilities, and a uranium hexafluoride (UF6 production facility. These facilities possess large quantities of materials that are potentially hazardous (i.e., radioactive, toxic, and/or flammable) to the workers, public, and environment. Also, some of the facilities possess information and material important to national security. In revising the oversight program, the goal is to have an oversight program that: (1) Provides earlier and more objective indications of facility performance in the areas of safety and national security, (2) increases stakeholder confidence in the NRC, and (3) increases regulatory effectiveness, efficiency, and realism. To achieve this goal, the NRC desires the revised oversight program to be more risk-informed and performance-based.

The public meeting will focus on the next actions and schedule in the project to revise the oversight program. A final draft project work plan has been posted on the NRC Technical Conference website at http://techconf.llnl.gov/cgi-bin/topics. This work plan will be the main agenda item.

DATES: Members of the public, industry, and other stakeholders are invited to attend and participate in the meeting, which is scheduled for 10:00 a.m. to 1:00 p.m. on Thursday, February 8, 2001. The meeting will be held in the One White Flint North building in conference room O-16B4.

ADDRESSES: NRC Headquarters, 11555 Rockville Pike, in Rockville, MD. Visitor parking around NRC Headquarters is limited; however, the public meeting site may be reached by taking the Washington DC area metro to White Flint. NRC Headquarters is located across the street from the White Flint metro station.

FOR FURTHER INFORMATION, CONTACT: Patrick Castleman, Office of Nuclear Material Safety and Safeguards, U.S. Nuclear Regulatory Commission, Washington, DC 20555, telephone (301) 415-8118, e-mail pic@nrc.gov.

Dated at Rockville, Maryland this 23 day of January 2001.
For the Nuclear Regulatory Commission.
Patrick Castleman,
Project Manager, Inspection Section, Safety and Safeguards Support Branch, Division of Fuel Cycle Safety and Safeguards.

[FR Doc. 01-2538 Filed 1-29-01; 8:45 am]

BILLING CODE 7590-01-P